DEPARTMENT OF ENERGY

10 CFR Parts 433 and 435

[EERE-2010-BT-STD-0031]

RIN 1904-AB96

Clean Energy for New Federal Buildings and Major Renovations of Federal Buildings; Correction

AGENCY: Office of Energy Efficiency and Renewable Energy, Department of Energy.

ACTION: Supplemental notice of proposed rulemaking; correction.

SUMMARY: On December 21, 2022, the U.S. Department of Energy (“DOE”) published a supplemental notice of proposed rulemaking that proposed energy performance standards for certain new Federal buildings and Federal buildings undergoing major renovations. This document corrects errors in the proposed regulatory text published with the supplemental notice of proposed rulemaking. These errors do not affect the substance of the rulemaking or any conclusions reached in support of the proposed rule.

DATES: Effective February 26, 2024.

FOR FURTHER INFORMATION CONTACT:

Mr. Rick Mears, U.S. Department of Energy, Office of the Under Secretary for Infrastructure, Federal Energy Management Program, FEMP-1, 1000 Independence Avenue SW, Washington, DC 20585-0121. Email: cer-information@hq.doe.gov.

Ms. Laura Zuber, U.S. Department of Energy, Office of the General Counsel, GC-33, 1000 Independence Avenue SW, Washington, DC 20585-0121. Telephone: (240) 306-7651. Email: laura.zuber@hq.doe.gov.

SUPPLEMENTARY INFORMATION:

I. Background

On December 21, 2022, DOE published a supplemental notice of proposed rulemaking (2022 SNOPR) that proposed energy performance standards for certain new Federal buildings and Federal buildings undergoing major renovations. The 2022 SNOPR proposed revisions to the energy performance standards at title 10 of the Code of Federal Regulations (“CFR”) parts 433 and 435. 87 FR 78382. Since publication of the 2022 SNOPR, DOE has identified printing errors in the regulatory text proposed by the 2022 SNOPR. DOE is issuing this correction to address certain errors in the 2022 SNOPR, specifically in 10 CFR 433.200 and 10 CFR 435.1. The corrections are described in the following paragraphs.

In the 2022 SNOPR, DOE proposed a compliance date of one year after the publication of the final rule. The proposed revisions to 10 CFR 433.1 reflect this proposed compliance date. However, the proposed revisions to 10 CFR 433.200(a) do not reflect this proposed compliance date. Instead, proposed 10 CFR 433.200(a) includes a compliance date of December 21, 2023, which was one year after the 2022 SNOPR was published in the Federal Register. Similarly, proposed 10 CFR 433.200(b) and 10 CFR 435.1 also reference a compliance date of December 21, 2023. 87 FR 78328, 78421 and 78430. These references to December 21, 2023, in proposed 10 CFR 433.200(a), 433.200(b), and 435.1 should have referenced a compliance date of “[Date one year after date of publication in the Federal Register].” This document corrects these printing errors and clarifies the intended proposed compliance dates.

II. Need for Correction

As published, the proposed regulatory text in the 2022 SNOPR may lead to confusion on the application of the energy performance standards proposed in the 2022 SNOPR. Because this document would simply correct printing errors in the proposed regulatory text without making substantive changes to energy performance standards proposed in the 2022 SNOPR, the changes addressed in this document are technical in nature.

III. Procedural Issues and Regulatory Review

DOE has concluded that the determinations made pursuant to the various procedural requirements applicable to the 2022 SNOPR remain unchanged for these technical corrections to the proposed regulatory text. These determinations are set forth in the 2022 SNOPR. 87 FR 78328, 78412-78420.

Pursuant to the Administrative Procedure Act, 5 U.S.C. 553(b), DOE finds that there is good cause to not issue a separate notice to solicit public comment on the technical corrections contained in this document. Issuing a separate notice to solicit public comment would be impracticable, unnecessary, and contrary to the public interest. As explained previously, the corrections in this document do not affect the substance of or any of the conclusions reached in support of the 2022 SNOPR. Additionally, given the 2022 SNOPR is a product of an extensive administrative record with numerous opportunities for public comment, DOE finds additional comment on the technical corrections is unnecessary. Therefore, providing prior notice and an opportunity for public comment on correcting objective errors that do not change the substance of the proposed energy performance standards serve no useful purpose.

Correction

In the Federal Register of December 21, 2022 (87 FR 78382) in FR Doc. 2022-27098, the following corrections are made:

§ 433.200 [Amended]

1. On page 78421, third column, in § 433.200, paragraphs (a)(1) and (b)(1), remove the words “December 21, 2023” and add in their place the words “[Date one year after date of publication in the Federal Register]”.

§ 435.1 [Amended]

2. One page 78430, first column, in § 435.1 in paragraph (b), remove the words “December 21, 2023” and add, in their place the words “[Date one year after date of publication in the Federal Register]”.

Signing Authority

This document of the Department of Energy was signed on February 21, 2024, by Mary Sotos, the Director of the Federal Energy Management Program, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 21, 2024.
Treena V. Garrett,
Federal Register Liaison Officer, U.S. Department of Energy.

[FR Doc. 2024-03876 Filed 2-23-24; 8:45 am]

BILLING CODE 6450-01-P